DEPARTMENT OF ENERGY

Federal Energy Regulatory Commission

Combined Notice of Filings #1

Take notice that the Commission received the following electric rate filings:

Docket Numbers: ER18-397-001.

Applicants: SunE Beacon Site 2 LLC.

Description: Compliance filing: Notice of Non-Material Change in Status and Revised MBR Tariff to be effective 3/13/2021.

Filed Date: 3/12/21.

Accession Number: 20210312-5235.

Comments Due: 5 p.m. ET 4/2/21.

Docket Numbers: ER18-398-001.

Applicants: SunE Beacon Site 5 LLC.

Description: Compliance filing: Notice of Non-Material Change in Status and Revised MBR Tariff to be effective 3/13/2021.

Filed Date: 3/12/21.

Accession Number: 20210312-5236.

Comments Due: 5 p.m. ET 4/2/21.

Docket Numbers: ER20-1961-001.

Applicants: Southwest Power Pool, Inc.

Description: Compliance filing: Deficiency Response in ER20-1961—NorthWestern Formula Rate Revision to be effective N/A.

Filed Date: 3/15/21.

Accession Number: 20210315-5148.

Comments Due: 5 p.m. ET 4/5/21.

Docket Numbers: ER20-2133-001.

Applicants: ISO New England Inc., Versant Power.

Description: Compliance filing: Versant Power; Order No. 864 Compliance Filing—Response to Staff Letter to be effective N/A.

Filed Date: 3/12/21.

Accession Number: 20210312-5295.

Comments Due: 5 p.m. ET 4/2/21.

Docket Numbers: ER21-1331-000.

Applicants: Southwest Power Pool Inc., Southwest Power Pool Market Monitoring Unit.

Description: Supplement to March 11, 2021 Request for Limited Waiver of Tariff Provisions, et al. of Southwest Power Pool, Inc.

Filed Date: 3/15/21.

Accession Number: 20210315-5050.

Comments Due: 5 p.m. ET 3/16/21.

Docket Numbers: ER21-1368-000.

Applicants: Valley Center ESS, LLC.

Description: Baseline eTariff Filing: Market-Based Rate Application to be effective 5/12/2021.

Filed Date: 3/12/21.

Accession Number: 20210312-5275.

Comments Due: 5 p.m. ET 4/2/21.

Docket Numbers: ER21-1369-000.

Applicants: Edwards Sanborn Storage I, LLC.

Description: Baseline eTariff Filing: Market-Based Rate Application to be effective 5/12/2021.

Filed Date: 3/12/21.

Accession Number: 20210312-5280.

Comments Due: 5 p.m. ET 4/2/21.

Docket Numbers: ER21-1370-000.

Applicants: Assembly Solar II, LLC.

Description: Baseline eTariff Filing: Baseline new to be effective 4/15/2021.

Filed Date: 3/12/21.

Accession Number: 20210312-5282.

Comments Due: 5 p.m. ET 4/2/21.

Docket Numbers: ER21-1371-000.

Applicants: Edwards Sanborn Storage II, LLC.

Description: Baseline eTariff Filing: Market-Based Rate Application to be effective 5/12/2021.

Filed Date: 3/12/21.

Accession Number: 20210312-5285.

Comments Due: 5 p.m. ET 4/2/21.

Docket Numbers: ER21-1372-000.

Applicants: Diamond Retail Energy, LLC.

Description: Baseline eTariff Filing: Application For Market Based Rate Authority to be effective 5/11/2021.

Filed Date: 3/12/21.

Accession Number: 20210312-5288.

Comments Due: 5 p.m. ET 4/2/21.

Docket Numbers: ER21-1373-000.

Applicants: Edwards Solar 1A, LLC.

Description: Baseline eTariff Filing: Market-Based Rate Application to be effective 5/12/2021.

Filed Date: 3/12/21.

Accession Number: 20210312-5289.

Comments Due: 5 p.m. ET 4/2/21.

Docket Numbers: ER21-1374-000.

Applicants: Diamond Energy PJM, LLC.

Description: Baseline eTariff Filing: Application For Market Based Rate Authority to be effective 5/11/2021.

Filed Date: 3/12/21.

Accession Number: 20210312-5291.

Comments Due: 5 p.m. ET 4/2/21.

Docket Numbers: ER21-1375-000.

Applicants: Diamond Energy ISONE, LLC.

Description: Baseline eTariff Filing: Application For Market Based Rate Authority to be effective 5/11/2021.

Filed Date: 3/12/21.

Accession Number: 20210312-5292.

Comments Due: 5 p.m. ET 4/2/21.

Docket Numbers: ER21-1376-000.

Applicants: Sanborn Solar 1A, LLC.

Description: Baseline eTariff Filing: Market-Based Rate Application to be effective 5/12/2021.

Filed Date: 3/12/21.

Accession Number: 20210312-5298.

Comments Due: 5 p.m. ET 4/2/21.

Docket Numbers: ER21-1377-000.

Applicants: Diamond Energy NYISO, LLC.

Description: Baseline eTariff Filing: Application For Market Based Rate Authority to be effective 5/11/2021.

Filed Date: 3/12/21.

Accession Number: 20210312-5300.

Comments Due: 5 p.m. ET 4/2/21.

Docket Numbers: ER21-1378-000.

Applicants: Assembly Solar II, LLC.

Description: § 205(d) Rate Filing: Certificate of Concurrence of Assembly Solar to be effective 4/15/2021.

Filed Date: 3/12/21.

Accession Number: 20210312-5301.

Comments Due: 5 p.m. ET 4/2/21.

Docket Numbers: ER21-1379-000.

Applicants: La Joya Wind, LLC.

Description: § 205(d) Rate Filing: Request for Authorization to Make Affiliate Sales, for Contract Specific Auth. to be effective 12/31/9998.

Filed Date: 3/12/21.

Accession Number: 20210312-5302.

Comments Due: 5 p.m. ET 4/2/21.

Docket Numbers: ER21-1388-000.

Applicants: Southwest Power Pool, Inc.

Description: § 205(d) Rate Filing: 1534R12 Kansas Municipal Energy Agency NITSA NOA to be effective 3/1/2021.

Filed Date: 3/15/21.

Accession Number: 20210315-5085.

Comments Due: 5 p.m. ET 4/5/21.

Docket Numbers: ER21-1391-000.

Applicants: Southwest Power Pool, Inc..

Description: § 205(d) Rate Filing: 2646R8 Kansas Municipal Energy Agency NITSA NOA to be effective 3/1/2021.

Filed Date: 3/15/21.

Accession Number: 20210315-5121.

Comments Due: 5 p.m. ET 4/5/21.

Docket Numbers: ER21-1393-000.

Applicants: PJM Interconnection, L.L.C.

Description: § 205(d) Rate Filing: Original WMPA, Service Agreement No. 5997; Queue No. AF1-249 to be effective 2/11/2021.

Filed Date: 3/15/21.

Accession Number: 20210315-5130.

Comments Due: 5 p.m. ET 4/5/21.

Docket Numbers: ER21-1395-000.

Applicants: PJM Interconnection, L.L.C.

Description: § 205(d) Rate Filing: Original ISA, Service Agreement No. 5984; Queue Nos. AC1-174/AC1-175 to be effective 2/11/2021.

Filed Date: 3/15/21.

Accession Number: 20210315-5135.

Comments Due: 5 p.m. ET 4/5/21.

Docket Numbers: ER21-1396-000.

Applicants: Sugar Solar, LLC.

Description: Baseline eTariff Filing: Sugar Solar, LLC MBR Tariff to be effective 3/16/2021.

Filed Date: 3/15/21.

Accession Number: 20210315-5141.

Comments Due: 5 p.m. ET 4/5/21.

Docket Numbers: ER21-1397-000.

Applicants: PGR 2020 Lessee 8, LLC.

Description: Baseline eTariff Filing: PGR 2020 Lessee 8, LLC MBR Tariff to be effective 3/16/2021.

Filed Date: 3/15/21.

Accession Number: 20210315-5142.

Comments Due: 5 p.m. ET 4/5/21.

Docket Numbers: ER21-1401-000.

Applicants: Northern States Power Company, a Minnesota, corporation Northern States Power Company, a Wisconsin corporation.

Description: § 205(d) Rate Filing: 2021 Interchange Agreement Annual Filing to be effective 1/1/2021..

Filed Date: 3/15/21.

Accession Number: 20210315-5178.

Comments Due: 5 p.m. ET 4/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2021.
Nathaniel J. Davis, Sr.,
Deputy Secretary.

[FR Doc. 2021-05706 Filed 3-18-21; 8:45 am]

BILLING CODE 6717-01-P